DEPARTMENT OF ENERGY

Federal Energy Regulatory Commission

Combined Notice of Filings #1

Take notice that the Commission received the following exempt wholesale generator filings:

Docket Numbers: EG14-79-000.

Applicants: Newark Energy Center, LLC.

Description: Notice of Self-Certification of Exempt Wholesale Generator Status of Newark Energy Center, LLC.

Filed Date: 7/23/14.

Accession Number: 20140723-5036.

Comments Due: 5 p.m. ET 8/13/14.

Take notice that the Commission received the following electric rate filings:

Docket Numbers: ER12-458-006.

Applicants: Quantum Choctaw Power, LLC, Quantum Auburndale Power, LP, Quantum Lake Power, LP, Quantum Pasco Power, LP.

Description: Notification of Non-Material Change in Status of the Quantum Entities.

Filed Date: 7/23/14.

Accession Number: 20140723-5041.

Comments Due: 5 p.m. ET 8/13/14.

Docket Numbers: ER14-1933-000; ER14-1934-001; ER14-1935-001.

Applicants: Headwaters Wind Farm LLC.

Description: Notice of Non-Material Change in Status of Headwaters Wind Farm LLC, et. al.

Filed Date: 7/21/14.

Accession Number: 20140721-5165.

Comments Due: 5 p.m. ET 8/11/14.

Docket Numbers: ER14-2324-001.

Applicants: Wisconsin Electric Power Company.

Description: Wisconsin Electric FERC Electric Tariff Volume 9—2014 update amended filing to be effective 8/29/2014.

Filed Date: 7/22/14.

Accession Number: 20140722-5091.

Comments Due: 5 p.m. ET 8/12/14.

Docket Numbers: ER14-2338-001.

Applicants: Wisconsin Electric Power Company.

Description: Wisconsin Electric and WPPI Rate Schedule FERC No 90—2014 revisions amended to be effective 8/29/2014.

Filed Date: 7/22/14.

Accession Number: 20140722-5098.

Comments Due: 5 p.m. ET 8/12/14.

Docket Numbers: ER14-2478-000.

Applicants: Southern California Edison Company.

Description: UFA with Copper Mountain Solar 2, LLC to be effective 7/24/2014.

Filed Date: 7/23/14.

Accession Number: 20140723-5044.

Comments Due: 5 p.m. ET 8/13/14.

Docket Numbers: ER14-2479-000.

Applicants: Southern California Edison Company.

Description: Amended LGIA and Distribution Serv Agmt with Coram California Development, L.P. to be effective 9/22/2014.

Filed Date: 7/23/14.

Accession Number: 20140723-5048.

Comments Due: 5 p.m. ET 8/13/14.

Docket Numbers: ER14-2480-000.

Applicants: PJM Interconnection, L.L.C.

Description: Service Agreement No. 2975; Queue No. W1-082 to be effective 6/24/2014.

Filed Date: 7/23/14.

Accession Number: 20140723-5060.

Comments Due: 5 p.m. ET 8/13/14.

Docket Numbers: ER14-2481-000.

Applicants: ITC Midwest LLC.

Description: Filing of CIAC Agreement with Pioneer Prairie Wind Farm I LLC to be effective 9/22/2014.

Filed Date: 7/23/14.

Accession Number: 20140723-5081.

Comments Due: 5 p.m. ET 8/13/14.

Docket Numbers: ER14-2482-000.

Applicants: NorthWestern Corporation.

Description: NorthWestern Corporation submits tariff filing per 35.15: Cancellation of SA 711 and 712—TSAs with Gaelectric LLC to be effective 7/21/2014.

Filed Date: 7/23/14.

Accession Number: 20140723-5083.

Comments Due: 5 p.m. ET 8/13/14.

Docket Numbers: ER14-2484-000.

Applicants: California Independent System Operator Corporation.

Description: 2014-07-23_EIMEnhancements to be effective 9/23/2014.

Filed Date: 7/23/14.

Accession Number: 20140723-5111.

Comments Due: 5 p.m. ET 8/13/14.

Docket Numbers: ER14-2485-000.

Applicants: Arizona Public Service Company.

Description: Large Generator Interconnection Agreements with Hyder, Administrative Correction to be effective 8/13/2014.

Filed Date: 7/23/14.

Accession Number: 20140723-5119.

Comments Due: 5 p.m. ET 8/13/14.

Take notice that the Commission received the following open access transmission tariff filings:

Docket Numbers: OA14-4-000.

Applicants: Limon Wind II, LLC, Limon Wind III, LLC.

Description: Petition for Waivers from Order Nos. 888, 889 and 890, and Request for Waiver of the 60-Day Rule of Limon Wind II, LLC and Limon Wind III, LLC.

Filed Date: 7/22/14.

Accession Number: 20140722-5114.

Comments Due: 5 p.m. ET 8/12/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 23, 2014.
Nathaniel J. Davis, Sr.,
Deputy Secretary.

[FR Doc. 2014-17959 Filed 7-29-14; 8:45 am]

BILLING CODE 6717-01-P